DEPARTMENT OF THE INTERIOR

Bureau of Land Management

[CA-650-1430-01]

Public Meeting

AGENCY: Bureau of Land Management.

ACTION: Public meeting.

SUMMARY: Public Meeting to gather public comments on the Timbisha Homeland Legislative EIS.

EFFECTIVE DATE: August 3, 2000.

FOR FURTHER INFORMATION CONTACT: Ahmed Mohsen, Ridgecrest Field Office, BLM, 300 South Richmond Road, Ridgecrest, CA 93555, (760) 384-5429.

SUPPLEMENTARY INFORMATION: Notice is hereby given, in accordance with the provisions of the National Environmental Policy Act (42 U.S.C. 4321 et seq.) that a public meeting will be held by the Bureau of Land Management and the National Park Service on Thursday August 10th, 2000 at 7 p.m. at the Boulder Creek Mobile Home Park, 2550 Highway 395 in Lone Pine, California. The purpose of this meeting is to gather public comments on water resources issues relating to the Centennial parcel of the proposed project. For more information, contact Ahmed Mohsen, Resource Management Specialist, at (760) 384-5421.

Dated: July 26, 2000.
Hector A. Villalobos,
Field Office Manager.

[FR Doc. 00-19652 Filed 8-2-00; 8:45 am]

BILLING CODE 4310-40-P